DEPARTMENT OF COMMERCE

National Telecommunications and Information Administration

Docket Nos. 020816196-2196-01; 020816197-2197-01; 010222048-2217-03; 010222048-2229-04; 010222048-2243-05; 010222048-2293-06; 010222048-2215-02; 010222048-2313-07; and 010222048-3014-08.

Closing Comment Period on Review of Exceptions to the Electronic Signatures in Global and National Commerce Act

AGENCY: National Telecommunications and Information Administration (NTIA), U.S. Department of Commerce

ACTION: Notice

SUMMARY: In a series of nine (9) Notices published in the Federal Register, the National Telecommunications and Information Administration (NTIA) invited the public to submit comments on the exceptions to the Electronic Signatures in Global and National Commerce Act, Pub. L. No. 106-229, codified at 15 U.S.C. §§ 7001 et seq. (“ESIGN” or “the Act”) set out in section 103 of the Act.¹ Comments filed on or before the deadlines listed in the Notices were posted on NTIA's website and comments received after the deadline were posted as late-filed comments. The comment period for the ninth Notice will expire on March 31, 2003.² As of March 31, 2003, the comment periods in each of the dockets listed herein are closed. NTIA will not accept or place in the record documents filed in the listed dockets after this date.

¹Notices have been published on the following exceptions to ESIGN: court, family law, and hazardous materials documents; wills; product recall, housing default, insurance cancellation, and utility termination notices; and contracts governed by state uniform commercial law. See 67 Fed.Reg. 56277, 56279, 59828, 61599, 63379, 69201, 75849, 78421; 68 Fed.Reg. 4179.

²See 68 Fed.Reg. 4179.

DATES: The comment periods in the dockets referenced in this Notice will be closed on March 31, 2003.

FOR FURTHER INFORMATION CONTACT: For questions about this Notice, contact Josephine Scarlett, Attorney, Office of the Chief Counsel, NTIA, 14th Street and Constitution Avenue, N.W., Washington, DC 20230, telephone (202) 482-1816 or electronic mail: jscarlett@ntia.doc.gov. Media inquiries should be directed to the Office of Public Affairs, National Telecommunications and Information Administration, at (202) 482-7002.

SUPPLEMENTARY INFORMATION:

Background

NTIA is the executive branch agency responsible for developing and articulating domestic and international telecommunications policy. NTIA is the principal adviser to the President on telecommunications policies pertaining to the Nation's economic and technological advancement in the telecommunications industry. The evaluation of the exceptions to the ESIGN Act is a part of NTIA's statutory responsibility to Congress as required in section 103(c)(1) of the Electronic Signatures in Global and National Commerce Act, Pub. L. No. 106-229, 114 Stat. 464 (2000). The ESIGN Act facilitates the use of electronic records and signatures in interstate and foreign commerce and removes uncertainty about the validity of contracts entered into electronically. Section 101 requires, among other things, that electronic signatures, contracts, and records be given legal effect, validity, and enforceability. Sections 103(a) and (b) of the Act provide that the requirements of section 101 shall not apply to contracts and records governed by statutes and regulations regarding: court documents, probate and domestic law matters; state commercial law; consumer law covering utility services, residential property foreclosure and eviction notices; insurance benefits notices; product recall notices; and hazardous materials papers. Section 103(c)(1) requires NTIA's principal, the Assistant Secretary for Communications and Information, to submit a report to Congress on the results of the evaluation of the exceptions to the ESIGN Act within three years after the date of enactment of the Act, or no later than June 30, 2003.

Due to the complexity of the issues in this evaluation and to facilitate a fully developed record, NTIA allowed interested parties to submit late-filed comments. NTIA has received a number of comments after the deadlines set in the Notices. Effective March 31, 2003, however, NTIA will no longer accept or place in the public record comments for consideration in this evaluation.

Dated: February 20, 2002.
Kathy D. Smith,
Chief Counsel, National Telecommunications and Information Administration.

[FR Doc. 03-4501 Filed 2-25-03; 8:45 am]

BILLING CODE 3510-60-S